ENVIRONMENTAL PROTECTION AGENCY

[ER-FRL-6624-9]

Environmental Impact Statements; Notice of Availability

Responsible Agency: Office of Federal Activities, General Information (202) 564-7167 or http://www.epa.gov/oeca/ofa.

Weekly receipt of Environmental Impact Statements

Filed December 17, 2001

Through December 21, 2001 Pursuant to 40 CFR 1506.9.

Due to the Closing of the U.S. Federal Government on Monday December 24, 2001, any EISs filed on Friday December 21, 2001 will APPEAR in the Federal Register on Friday January 4, 2002, with the 45-Day Comment Period and 30-Day Wait Period Calculated from Friday December 21, 2001.

EIS No. 010532, Draft EIS, AFS, IL, Natural Area Trails Project, Construction, Reconstruction, Maintenance and Designation of Trails for Hikers and Equestrian Use, Approval of Site-Specific Mitigation and/or Monitoring Standards, Shawnee National Forest, Jackson, Pope, Johnson, Union, Hardin and Saline Counties, IL, Comment Period Ends: February 11, 2001, Contact: Richard Johnson (618) 658-2111.

EIS No. 010533, Final EIS, AFS, MT, Keystone-Quartz Ecosystem Management, Implementation, Beaverhead-Deerlodge National Forest, Wise River Ranger District, Beaverhead County, MT, Wait Period Ends: January 28, 2002, Contact: Peri Suenram (406) 683-3967.

EIS No. 010534, Draft EIS, AFS, CA, Los Padres National Forest Oil and Gas Leasing Management, Implementation, Kern, Los Angeles, Monterey, Santa Barbara and San Luis Obispo Counties, CA, Comment Period Ends: February 15, 2002, Contact: Al Hess (Ext. 311) (805) 646-4348.

EIS No. 010535, Draft EIS, AFS, MT, White Pine Creek Project, Timber Harvest, Prescribe Fire Burning, Watershed Restoration and Associated Activities, Implementation, Kootenai National Forest, Cabinet Ranger District, Sanders County, MT, Comment Period Ends: February 11, 2002, Contact: John Head (406) 827-3533.

EIS No. 010536, Final EIS, AFS, MT, Kelsey-Beaver Fire Recovery Project, Fuel Reduction and Salvage of Fire-Killed Trees within Roderick South, Kelsey Creek and Upper Beaver Areas, Implementation, Kootenai National Forest, Three Rivers Ranger District, Lincoln County, MT , Wait Period Ends: January 28, 2002, Contact: Mike Giesey (406) 295-4693.

EIS No. 010537, Draft EIS, SFW, CA, Multiple Habitat Conservation Program for Threatened and Endangered Species Due to the Urban Growth within the Planning Area, Adoption and Incidental Take Permits Issuance, San Diego County, CA, Comment Period Ends: April 28, 2002, Contact: Lee Ann Carranza (760) 431-9440.

Dated: December 21, 2001.
Joseph C. Montgomery,
Director, NEPA Compliance Division, Office of Federal Activities.

[FR Doc. 01-32037 Filed 12-28-01; 8:45 am]

BILLING CODE 6560-50-U